ENVIRONMENTAL PROTECTION AGENCY

[EPA-HQ-OPPT-2017-0127; FRL-11623-01-OCSPP]

2023 Report; Inventory of Mercury Supply, Use, and Trade in the United States; Notice of Availability

AGENCY: Environmental Protection Agency (EPA).

ACTION: Notice.

SUMMARY: The Environmental Protection Agency (EPA) is announcing the availability of the 2023 mercury inventory report, which summarizes information on mercury supply, use, and trade in the United States that is required to be reported to EPA by rule directly from mercury manufacturers, importers, and processors. The Toxic Substances Control Act (TSCA) directs the EPA to carry out and publish in the Federal Register every three years an inventory of mercury supply, use, and trade in the United States. TSCA defines “mercury” as “elemental mercury” or “a mercury compound.”

ADDRESSES: The docket for this action, identified by docket identification (ID) number EPA-HQ-OPPT-2017-0127, is available online at http://www.regulations.gov. Additional instructions for visiting the docket, along with more information about dockets generally, is available at https://www.epa.gov/dockets.

FOR FURTHER INFORMATION CONTACT:

For technical information contact: Thomas Groeneveld, Existing Chemicals Risk Management Division, Office of Pollution Prevention and Toxics, Environmental Protection Agency, 1200 Pennsylvania Ave. NW, Washington, DC 20460-0001; telephone number: (202) 566-1188; email address: groeneveld.thomas@epa.gov.

For general information contact: The TSCA-Hotline, ABVI-Goodwill, 422 South Clinton Ave., Rochester, NY 14620; telephone number: (202) 554-1404; email address: TSCA-Hotline@epa.gov.

SUPPLEMENTARY INFORMATION:

I. Does this action apply to me?

This action applies to the public in general and may be of interest to a wide range of stakeholders including members of the public interested in elemental mercury or mercury compounds generally. Other topics of interest include the supply, use, or trade of elemental mercury or mercury compounds, including mercury-added products and manufacturing processes. As such, the Agency has not attempted to describe all the specific entities that may be interested in this action.

II. What is the Agency's authority for taking this action?

TSCA section 8(b)(10), 15 U.S.C. 2507(b)(10), directs EPA to carry out and publish in the Federal Register not later than April 1, 2017, and every three years thereafter, an inventory of mercury supply, use, and trade in the United States. TSCA section 8(b)(10)(A) defines “mercury” as “elemental mercury” or “a mercury compound” (15 U.S.C. 2507(b)(10)(A)). In carrying out the mercury inventory, EPA is to “identify any manufacturing processes or products that intentionally add mercury” (15 U.S.C. 2607(b)(10)(C)(i)) and “recommend actions, including proposed revisions of Federal law or regulations, to achieve further reductions in mercury use” (15 U.S.C. 2607(b)(10)(C)(ii)).

III. What action is the Agency taking?

EPA is publishing the 2023 report of the inventory of mercury supply, use, and trade in the United States (15 U.S.C. 2507(b)(10)(B)). This is the second report in which the supply, use, and trade of mercury is presented based on data collected by EPA under the mercury reporting requirements under TSCA that are codified in 40 CFR part 713. Persons subject to the reporting requirements in 40 CFR part 713 submitted information directly to EPA via the Mercury Electronic Reporting (MER) application, which is accessed through the Agency's Central Data Exchange (CDX). For reporting activities that occurred in the calendar year 2021, the deadline for reporting mercury information to EPA was July 1, 2022, and the inventory collection, reporting, and publication cycle will continue every three years thereafter.

IV. How can I access this report?

The 2023 inventory report, and the previously published report in 2020, may be found in the docket for this action and on the EPA mercury website at https://www.epa.gov/mercury.

Authority: 15 U.S.C. 2607(b)(10)(B).

Dated: December 20, 2023.
Michal Freedhoff,
Assistant Administrator, Office of Chemical Safety and Pollution Prevention.

[FR Doc. 2023-28376 Filed 12-22-23; 8:45 am]

BILLING CODE 6560-50-P